DEPARTMENT OF THE INTERIOR

National Park Service

[NPS-WASO-NAGPRA-NPS0028405; PPWOCRADN0-PCU00RP14.R50000]

Notice of Intent To Repatriate Cultural Items: Nebraska State Historical Society, DBA History Nebraska, Lincoln, NE

AGENCY: National Park Service, Interior.

ACTION: Notice.

SUMMARY: History Nebraska, in consultation with the appropriate Indian Tribes or Native Hawaiian organizations, has determined that the cultural item listed in this notice meets the definition of a sacred object. Lineal descendants or representatives of any Indian Tribe or Native Hawaiian organization not identified in this notice that wish to claim this cultural item should submit a written request to the History Nebraska. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Nebraska at the address in this notice by September 4, 2019.

ADDRESSES: Trisha Nelson, History Nebraska, 1500 R Street, Lincoln, NE 68508-1651, telephone (402) 471-4760, email trisha.nelson@nebraska.gov.

SUPPLEMENTARY INFORMATION: Notice is here given in accordance with the Native American Graves Protection and Repatriation Act (NAGPRA), 25 U.S.C. 3005, of the intent to repatriate a cultural item under the control of History Nebraska, Lincoln, NE, that meets the definition of a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On March 6, 1922, Robert B. Small donated one sacred object consisting of a Winnebago bundle to History Nebraska (legally the Nebraska State Historical Society). An inventory of Mr. Small's donation indicates that the bundle had been with the Tribe for more than one hundred years and was given to Mr. Small by Joseph Harrison, a member of the Winnebago Tribe who died around 1920. The bundle had been in Mr. Harrison's possession for more than fifty years and “had kept away the evil spirit and also given him good luck in war and in peace.” Mr. Harrison gave the bundle to his old friend Mr. Small, believing it would bring him good fortune too. Mr. Small had been a clerk at the Winnebago Agency and a cashier at the Homer State Bank for about 14 years.

This object was included in the NAGPRA summary sent to the Winnebago Tribe of Nebraska in November of 1993. However, resulting consultation in the mid-1990s did not specifically involve this bundle. On September 18, 2018, Eben Crawford and Randy Teboe, representing the Winnebago Tribe of Nebraska, initiated consultation with History Nebraska regarding the possible repatriation of five objects, not including this bundle. On September 24, 2018, Mr. Crawford and Mr. Teboe met with History Nebraska staff at the Museum of Nebraska History; a spreadsheet listing Winnebago artifacts controlled by History Nebraska was shared at that time. On February 25, 2019 the Winnebago Tribe (represented by Eben Crawford and Randy Teboe) requested repatriation of the bundle (object number 1902) demonstrating that it is a sacred object.

Determinations Made by History Nebraska

Officials of History Nebraska have determined that:

• Pursuant to 25 U.S.C. 3001(3)(C), the one cultural item described above is a specific ceremonial object needed by a traditional Native American religious leader for the practice of traditional Native American religion by present-day adherents.

• Pursuant to 25 U.S.C. 3001(2), there is a relationship of shared group identity that can be reasonably traced between the sacred object and the Winnebago Tribe of Nebraska.

Additional Requestors and Disposition

Lineal descendants or representatives of any Indian Tribe or Native Hawaiian organization not identified in this notice that wish to claim this cultural item should submit a written request with information in support of the claim to Trisha Nelson, History Nebraska, 1500 R Street, Lincoln, NE 68508-1651, telephone (402) 471-4760, email trisha.nelson@nebraska.gov, by September 4, 2019. After that date, if no additional claimants have come forward, transfer of control of the sacred object to the Winnebago Tribe of Nebraska may proceed.

History Nebraska is responsible for notifying the Winnebago Tribe of Nebraska that this notice has been published.

Dated: July 9, 2019.
Melanie O'Brien,
Manager, National NAGPRA Program.

[FR Doc. 2019-16682 Filed 8-2-19; 8:45 am]

BILLING CODE 4312-52-P